DEPARTMENT OF HEALTH AND HUMAN SERVICES

Administration for Children and Families

Office of Community Services; Grant to the National Association of Farmers' Market Nutrition Programs

AGENCY: Office of Community Services, ACF, DHHS.

ACTION: Award announcement.

SUMMARY: Notice is hereby given that a noncompetitive grand award is being made to the National Association of Farmers' Market Nutrition Programs to initiate a Nationwide Farmers' Market Connections Campaign to serve low-income communities, limited resource farmers, and low-income women and children who participate in the WIC Program.

This one-year project is being funded noncompetitively because it is expected to provide valuable information useful to this Department and other practitioners regarding research and demonstration initiatives related to welfare reform and the well being of low-income children and families. The nationwide campaign will be piloted in four states, and will promote the development and coordination of farmers' markets and marketing services among federal, state and local agencies. The cost of the project is $33,000 for one year.

Contact for Further Information: Catherine Rivers, Administration for Children and Families, Office of Community Services, 370 L'Enfant Promenade, SW., Washington, DC 20447, Phone: 202-401-5252.

Dated: September 18, 2000.
Donald Sykes,
Director, Office of Community Services.

[FR Doc. 00-24415 Filed 9-21-00; 8:45 am]

BILLING CODE 4184-01-M